DEPARTMENT OF COMMERCE

National Oceanic and Atmospheric Administration

RIN 0648-XG452

South Atlantic Fishery Management Council (Council); Public Meetings

AGENCY: National Marine Fisheries Service (NMFS), National Oceanic and Atmospheric Administration (NOAA), Commerce.

ACTION: Notice of revised schedule for scoping meetings.

SUMMARY: Due to Hurricane Florence, the schedule for a series of public scoping meetings to be held by the South Atlantic Fishery Management Council (Council) has been revised. The Council will hold a series of scoping meetings pertaining to Amendment 47 to the Snapper Grouper Fishery Management Plan of the South Atlantic Region addressing modifications to the South Atlantic Charter/Headboat for Snapper-Grouper permit.

DATES: The series of scoping meetings will be held from October 9 through November 8, 2018 according to the revised schedule. All meetings will begin at 6 p.m. See SUPPLEMENTARY INFORMATION for specific dates and times.

ADDRESSES: See SUPPLEMENTARY INFORMATION for specific locations.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The original notice published in the Federal Register on August 31, 2018 (83 FR 44575). This notice revises the dates and locations of the scoping meetings.

Public scoping comments are being solicited for measures proposed in draft Amendment 47 to the Snapper Grouper Fishery Management Plan of the South Atlantic Region addressing modifications to the federal South Atlantic Charter/Headboat for Snapper-Grouper permit (for-hire permit). Public scoping occurs early in the amendment development process and the Council is soliciting input on proposed options that include a moratorium on for-hire permits, options for the start date of a moratorium, exceptions for eligibility, transferability of for-hire permits, options to allow new entrants, establishing a for-hire permits pool, creating multiple for-hire permit types, and implementing a time limit or sunset provision for a moratorium on for-hire permits. Options are also being considered for modifying the current permit condition that specifies a harvest prohibition on snapper grouper species in state water when the species is closed to harvest in federal waters, issuing a for-hire permit for an individual rather than a vessel, and attaching a consistent identifying number to the federal for-hire permit in a similar manner as is applied to limited entry permits.

Council staff will provide an overview of options being considered for draft Snapper Grouper Amendment 47 and answer questions during each scoping meeting. Public comments will be accepted at each scoping meeting location on the specified date.

In-Person Scoping Meetings

1. October 9, 2018—Coastal Electric Cooperative, 1265 South Coastal Highway, Midway, GA 31320; Phone: (912) 884-3311

2. October 9, 2018—Jennette's Pier, 7223 South Virginia Dare Trail, Nags Head, NC 27959; Phone: (252) 255-1501

3. October 10, 2018—North Carolina Division of Marine Fisheries Central District Office, 5285 Highway 70W, Morehead City, NC 28557; Phone: (252) 808-8011

4. October 29, 2018—Murrells Inlet Community Center, 4462 Murrells Inlet Road, Murrells Inlet, SC 29576; Phone: (843) 545-3651

5. October 30, 2018—Haddrells Point Fin to Feather, 887 Ben Sawyer Boulevard, Mt. Pleasant, SC 29464; Phone: (843) 881-3644

6. November 1, 2018—Hilton Head Boat House, 405 Squire Pope Road, Hilton Head, SC 29926; Phone: (843) 681-2628

7. November 5, 2018—Safe Harbor Seafood, 4371 Ocean Street, Jacksonville, FL 32233; Phone: (904) 247-0255

8. November 6, 2018—Eau Gallie Civic Center, 1551 Highland Avenue, Melbourne, FL 32935; Phone: (321) 608-7400

9. November 7, 2018—Loxahatchee River Center, 805 North U.S. Highway One Jupiter, FL 33477; Phone: (561) 743-7123

10. November 8, 2018—Harvey Government Center, 1200 Truman Avenue, Key West, FL 33040; Phone: (305) 295-4385

Submitting Written Comments

The Council requests that written comments be submitted using the online public comment form available from the Council's website. All comments submitted using the online form will be automatically posted to the website and accessible for Council members and the public to view. The direct link to the Public Hearing and Scoping meeting page and the public comment form is: http://safmc.net/safmc-meetings/public-hearings-scoping-meetings. Written comments may also be submitted by mail or FAX.

All written comments are due by 5 p.m. on November 9, 2018.

Comments may be submitted by mail to: Gregg Waugh, Executive Director, SAFMC, 4055 Faber Place Drive, Suite 201, North Charleston, SC 29405. Fax comments to (843) 769-4520.

The Snapper Grouper Amendment 47 scoping document, public comment form, and other relevant materials will be posted on the Council's website as they become available.

Special Accommodations

These meetings are physically accessible to people with disabilities. Requests for auxiliary aids should be directed to the council office (see ADDRESSES) 3 days prior to the meeting.

Note: The times and sequence specified in this agenda are subject to change.

Authority: 16 U.S.C. 1801 et seq.

Dated: September 27, 2018.
Tracey L. Thompson,
Acting Deputy Director, Office of Sustainable Fisheries, National Marine Fisheries Service.

[FR Doc. 2018-21479 Filed 10-2-18; 8:45 am]

BILLING CODE 3510-22-P